DEPARTMENT OF COMMERCE

National Oceanic and Atmospheric Administration

RIN 0648-XA180

Pacific Fishery Management Council (Council); Public Meeting

AGENCY: National Marine Fisheries Service (NMFS), National Oceanic and Atmospheric Administration (NOAA), Commerce.

ACTION: Notice of a public meeting.

SUMMARY: The Pacific Fishery Management Council (Pacific Council) will convene a meeting of the Ecosystem Advisory Subpanel (EAS), which is open to the public.

DATES: The EAS will meet on Wednesday, February 16, 2011, beginning at 8:30 a.m. and concluding at 5 p.m., or when business for the day is completed.

ADDRESSES: The EAS meeting will be held at the Hyatt Place—Portland Airport, Meeting Place #3, 9750 NE. Cascades Parkway, Portland, OR 97220; telephone: (503) 288-2808.

FOR FURTHER INFORMATION CONTACT: Mike Burner, Staff Officer; telephone: (503) 820-2280.

SUPPLEMENTARY INFORMATION: Please note, this is not a public hearing; it is a work session for the primary purpose of reviewing a report of the Ecosystem Plan Development Team (EPDT) and considering recommendations to the Council on the development of an Ecosystem Fishery Management Plan (EFMP). At the September 2010 Council meeting, the Council tasked the EPDT with a review of the Council's four fishery management plans (FMPs) to identify existing ecosystem-based principles as well as common management needs that may benefit from a coordinated overarching EFMP framework. The EPDT is meeting January 26-27, 2011 and plans to provide its final report in advance of the EAS meeting. The EPDT report is also scheduled to be included in the March 2011 Council Briefing Book and be presented to the Council and its Advisory Bodies at the March 5-10, 2011 Council meeting in Vancouver, WA. EAS recommendations to the Council on the development of an EFMP are anticipated to be discussed on February 16th and may be presented to the Council in March.

Although non-emergency issues not contained in the meeting agenda may come before the EAS for discussion, those issues may not be the subject of formal EAS action during this meeting. EAS action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2280 at least 5 days prior to the meeting date.

Dated: January 25, 2011.
Tracey L. Thompson,
Acting Director, Office of Sustainable Fisheries, National Marine Fisheries Service.

[FR Doc. 2011-1925 Filed 1-27-11; 8:45 am]

BILLING CODE 3510-22-P